FEDERAL COMMUNICATIONS COMMISSION

47 CFR Part 1

[MD Docket No. 19-333; FCC 19-113; FRS 16276]

Closure of FCC Lockbox 979096 Used To Collect Payment of Charges for Certain International Telecommunications Services

AGENCY: Federal Communications Commission.

ACTION: Final rule.

SUMMARY: In this document, the Federal Communications Commission (FCC or Commission) adopts an Order that closes Lockbox 979096 and removes the relevant rule relating to the collection of payment for charges for certain international telecommunications services.

DATES: Effective January 6, 2020.

FOR FURTHER INFORMATION CONTACT: Warren Firschein, Office of Managing Director at (202) 418-2653 or Roland Helvajian, Office of Managing Director at (202) 418-0444.

SUPPLEMENTARY INFORMATION: This is a summary of the Commission's Order, FCC 19-113, MD Docket No. 19-333, adopted on November 7, 2019 and released on November 12, 2019. The full text of this document is available for public inspection and copying during normal business hours in the FCC Reference Center (Room CY-A257), 445 12th Street SW, Washington, DC 20554, or by downloading the text from the Commission's website at https://www.fcc.gov/document/closure-lockbox-used-international-telecommunications-services.

I. Administrative Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties. See 5 U.S.C. 804(3)(C).

II. Introduction

4. In the Order, we reduce expenditures by the Commission and modernize procedures by removing § 1.1108 of our rules, 47 CFR 1.1108, which sets forth the charges for applications and other filings for international telecommunications services. The rule amendment reflects the closure of the P.O. Box ¹ used to collect payment of charges for certain international telecommunications services, along with a fee for processing such transactions. Our action here stems from our recent decision, described below, to no longer function as an accounting authority of last resort and to accordingly cease collection of such charges.

¹ A P.O. Box used for the collection of fees is referred to as a “lockbox” in our rules and other Commission documents. The FCC collects application processing fees using a series of P.O. Boxes located at U.S. Bank in St. Louis, Missouri. See 47 CFR 1.1101-1.1109 (setting forth the fee schedule for each type of application remittable to the Commission along with the correct lockbox).

5. The FCC has historically performed the function of an accounting authority for international maritime mobile communications for those customers in the maritime mobile and maritime mobile-satellite radio services that had not otherwise designated any such accounting authority. This default function is referred to as the “accounting authority of last resort.” Essentially, this involves presenting telecommunications bills to U.S.-registered ships that have utilized telecommunications services from a foreign coast station or satellite, accepting payment, and remitting collected funds to the telecommunications provider. The Commission used P.O. Box 979096 to collect such payments.

6. On December 21, 2018, the Commission released a Second Report and Order in which it adopted its proposal to transition the functions and duties performed by the FCC as an accounting authority of last resort (84 FR 8994 (March 13, 2019)). The Commission also directed the staff to finalize details of the transition and publish the detailed transition and outreach plan. The detailed plan was released on April 22, 2019 in a Public Notice. The Public Notice indicated that the Commission would terminate its performance of the functions of an accounting authority at the close of business on April 22, 2020. The Public Notice also explained that no later than that date, users who have relied on the Commission as an accounting authority must affirmatively select an accounting authority, contract with such entity as their new accounting authority, and reactivate/recommission their terminal(s) to the new accounting authority's identification code (AAIC).

7. In the Order, we announce that we will close P.O. Box 979096, effective July 15, 2020, at which time the Commission will no longer handle such transactions, and parties will be expected to utilize other accounting authorities as provided in the Second Report and Order and the Public Notice. While we do not anticipate receiving payments after April 22, 2020, delaying the closure of the P.O. Box until after the Commission ceases to function as an accounting authority will allow us to coordinate with parties whose payments have been delayed and assist them in utilizing another accounting authority.

8. Closure of P.O. Box 979096 will reduce the agency's expenditures (including eliminating the annual fee for the bank's services). Because the Commission will no longer serve as an accounting authority, it will also provide no inconvenience to the Commission's regulatees, applicants, and the public. We amend our rules to reflect this change as indicated in the Appendix. We make this change without notice and comment because it is a rule of agency organization, procedure, or practice exempt from the general notice-and-comment requirements of the Administrative Procedure Act.

III. Ordering Clauses

9. Accordingly, it is ordered, that pursuant to sections 4(i), 4(j), 158, 208, and 224 of the Communications Act of 1934, as amended, 47 U.S.C. 154(i), 154(j), 158, 208, and 224, the Order is hereby adopted and the rules set forth in the Appendix of the Order are hereby amended effective January 6, 2020.

List of Subjects in 47 CFR Part 1

Administrative practice and procedure.

Federal Communications Commission.
Marlene Dortch,
Secretary.

Final Rules

For the reasons discussed in the preamble, the Federal Communications Commission amends 47 CFR part 1 as follows:

PART 1—PRACTICE AND PROCEDURE

1. The authority citation for part 1 continues to read as follows:

Authority: 47 U.S.C. chs. 2, 5, 9, 13; 28 U.S.C. 2461 note, unless otherwise noted.

§ 1.1108 [Removed and Reserved]

2. Remove and reserve § 1.1108.

[FR Doc. 2019-26304 Filed 12-5-19; 8:45 am]

BILLING CODE 6712-01-P